DEPARTMENT OF ENERGY

Federal Energy Regulatory Commission

[Docket No. RP10-465-000]

Gulf South Pipeline Company; Notice of Technical Conference

May 6, 2010.

The Commission's March 31, 2010, Order in the above-captioned proceeding directed that a technical conference be held to address operation and technical issues raised by Gulf South Pipeline Company's (Gulf South) pooling proposal and to further discuss concerns related to Gulf South's justifications for its proposed pooling modification.¹

¹ Gulf South Pipeline Company, 130 FERC ¶ 61,272 (2010).

Take notice that Commission Staff will convene a technical conference in the above-referenced proceeding on Thursday, May 27, 2010 at 1 p.m. (EST), in a room to be designated at the offices of the Federal Energy Regulatory Commission, 888 First Street, NE., Washington, DC 20426.

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons are permitted to attend. For further information please contact Robert Mclean at (202) 502-8156 or e-mail Robert McLean@ferc.gov.

Kimberly D. Bose,
Secretary.

[FR Doc. 2010-11528 Filed 5-13-10; 8:45 am]

BILLING CODE 6717-01-P